DEPARTMENT OF COMMERCE

National Oceanic and Atmospheric Administration

RIN 0648-XN13

Marine Mammals; File No. 1039-1699

AGENCY: National Marine Fisheries Service (NMFS), National Oceanic and Atmospheric Administration (NOAA), Commerce.

ACTION: Notice; receipt of application for amendment.

SUMMARY: Notice is hereby given that Ann Zoidis, Cetos Research Organization, 11 Des Isle Avenue, Bar Harbor, Maine 04609, has applied for an amendment to Scientific Research Permit No. 1039-1699-01.

DATES: Written, telefaxed, or e-mail comments must be received on or before March 11, 2009.

ADDRESSES: The application and related documents are available upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)944-2200; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1039-1699.

FOR FURTHER INFORMATION CONTACT: Carrie Hubard or Kristy Beard, (301)713-2289.

SUPPLEMENTARY INFORMATION: The subject amendment to Permit No. 1039-1699, issued on June 30, 2004, is requested under the authority of the Marine Mammal Protection Act of 1972, as amended (16 U.S.C. 1361 et seq.) and the regulations governing the taking and importing of marine mammals (50 CFR part 216).

Permit No. 1039-1699-01 authorizes the permit holder to conduct humpback whale (Megaptera novaeangliae) research, including photo-identification, behavioral observations, and passive acoustics in the waters off Hawaii. Several species of non-listed, small whales and dolphins may also be studied. The permit holder is requesting an amendment to take up to 100 minke whales (Balaenoptera acutorostrata) in the waters off Hawaii annually. Minke whales would be approached for photo-identification. The purpose of the new research is to investigate the abundance, distribution, and behavior of this species, which has not been thoroughly studied in Hawaii. The amended permit would expire on June 30, 2009.

Concurrent with the publication of this notice in the Federal Register, NMFS is forwarding copies of this application to the Marine Mammal Commission and its Committee of Scientific Advisors.

Dated: February 4, 2009.
P. Michael Payne,
Chief, Permits, Conservation and Education Division, Office of Protected Resources, National Marine Fisheries Service.

[FR Doc. E9-2662 Filed 2-6-09; 8:45 am]

BILLING CODE 3510-22-S